DEPARTMENT OF ENERGY

Federal Energy Regulatory Commission

Centralized Capacity Markets in Regional Transmission Organizations and Independent System Operators; Supplemental Notice of Technical Conference

As announced in the Notice issued on June 17, 2013, and the Supplemental Notice issued on July 19, 2013, the Federal Energy Regulatory Commission (Commission) staff will hold a technical conference on September 25, 2013 from 9:00 a.m. to approximately 5:00 p.m., to consider how current centralized capacity market rules and structures in the regions served by ISO New England Inc. (ISO-NE), New York Independent System Operator, Inc. (NYISO), and PJM Interconnection, L.L.C. (PJM) are supporting the procurement and retention of resources necessary to meet future reliability and operational needs.¹ The conference will be held at the Federal Energy Regulatory Commission, 888 First Street NE., Washington, DC 20426. This conference is free of charge and open to the public. Commission members may participate in the conference.

¹ While the Commission recognizes that other regions are considering similar issues, this technical conference will focus solely on the centralized capacity markets in the ISO-NE, NYISO, and PJM regions. The Commission may convene conference(s) on capacity market issues in other regions at other times.

A final agenda for this conference, including speakers, is attached.

The first session will provide an opportunity for each of the eastern Regional Transmission Organizations (RTOs)/Independent System Operators (ISOs) to give a 15 minute presentation. The Independent Market Monitors will then be provided ten minutes to provide an independent assessment of each market.

In sessions two, three and four, panelists will not give opening remarks; instead, they will respond to questions posed by Commissioners and staff. Those panelists are required to file written statements by Monday, September 9, 2013. These statements will be available prior to the conference on the Commission's Web site, http://www.ferc.gov/EventCalendar/EventDetails.aspx?ID=6944&CalType=%20&CalendarID=116&Date=09/25/2013&View=Listview.

Each RTO/ISO will have a representative available throughout the day to answer any technical questions. RTO/ISO representatives will also have an opportunity to respond to ideas presented in the final session regarding considerations for the future.

Following the conference, the Commission plans to issue a Notice with follow-on questions for public comment.

In addition to this Supplemental Notice, staff is issuing in this docket a Staff Report, “Centralized Capacity Market Design Elements.” In the report, staff examines a set of design elements present in the centralized capacity markets operated by ISO-NE, NYISO and PJM. The report summarizes the approaches taken by each of these RTOs/ISOs with respect to these design elements and discusses the impact particular market design choices can have on the procurement of capacity resources. This review of the mechanics of current market operations is intended to provide a common foundation for broader discussions regarding the operation of the eastern RTO/ISO centralized capacity markets. The Staff Report can be found on the Commission's Web site, http://www.ferc.gov/EventCalendar/EventDetails.aspx?ID=6944&CalType=%20&CalendarID=116&Date=09/25/2013&View=Listview.

The technical conference will be transcribed. Additionally, there will be a free webcast of the conference. The webcast will allow persons to listen to the technical conference, but not participate. Anyone with Internet access who wants to listen to the conference can do so by navigating to the Calendar of Events at www.ferc.gov and locating the technical conference in the Calendar. The technical conference will contain a link to its webcast. The Capitol Connection provides technical support for the webcast and offers the option of listening to the meeting via phone-bridge for a fee. If you have any questions, visit www.CapitolConnection.org or call 703-993-3100.²

² The webcast will continue to be available on the Calendar of Events on the Commission's Web site www.ferc.gov for three months after the conference.

While this conference is not for the purpose of discussing specific cases, we note that the discussions at the conference may address matters at issue in the following Commission proceeding(s) that are either pending or within their rehearing period:

ISO-NE:
ISO New England Inc | Docket No. ER13-2149
ISO New England Inc | Docket No. ER13-2110
ISO New England Inc | Docket No. ER13-1880
ISO New England Inc | Docket No. ER13-1877
ISO New England Inc | Docket No. ER13-1851
ISO New England Inc | Docket No. ER13-1742
Dominion Energy Marketing, Inc | Docket No. ER13-1291
ISO New England Inc | Docket No. ER12-1627
ISO New England Inc | Docket No. ER12-953
Dominion Energy Marketing, Inc | Docket No. EL13-72
New England Power Generators Association v. ISO New England Inc | Docket No. EL13-66
New England States Committee on Electricity v. ISO New England Inc | Docket No. EL13-34
NYISO:
New York Independent System Operator, Inc | Docket No. ER13-1380
New York Independent System Operator, Inc | Docket No. ER12-2414
New York Independent System Operator, Inc | Docket No. ER12-360
New York Independent System Operator, Inc | Docket No. ER10-2371
Independent Power Producers of New York, Inc. v. New York Independent System Operator, Inc | Docket No. EL13-62
Hudson Transmission Partners, LLC v. New York Independent System Operator, Inc | Docket No. EL12-98
Astoria Generating Company, L.P., et al. v. New York Independent System Operator, Inc | Docket No. EL11-50
Astoria Generating Company, L.P., et al. v. New York Independent System Operator, Inc | Docket No. EL11-42
New York Independent System Operator, Inc | Docket No. EL07-39
PJM:
PJM Interconnection, L.L.C | Docket No. ER13-2140
PJM Interconnection, L.L.C | Docket No. ER13-2108
PJM Interconnection, L.L.C | Docket No. ER13-535
Viridity Energy, Inc v. PJM Interconnection, L.L.C | Docket No. EL12-54

Information on the technical conference will be posted on the Commission's Web site, http://www.ferc.gov/EventCalendar/EventDetails.aspx?ID=6944&CalType=%20&CalendarID=116&Date=09/25/2013&View=Listview, prior to the conference.

Commission conferences are accessible under section 508 of the Rehabilitation Act of 1973. For accessibility accommodations, please send an email to accessibility@ferc.gov or call toll free 1-866-208-3372 (voice) or 202-502-8659 (TTY), or send a FAX to 202-208-2106 with the required accommodations.

For more information about the technical conference, please contact:

Shiv Mani (Technical Information), Office of Energy Policy and Innovation, Federal Energy Regulatory Commission, 888 First Street NE., Washington, DC 20426, (202) 502-8240, Shiv.Mani@ferc.gov.

Kate Hoke (Legal Information), Office of the General Counsel, Federal Energy Regulatory Commission, 888 First Street NE., Washington, DC 20426, (202) 502-8404, Katheryn.Hoke@ferc.gov.

Sarah McKinley (Logistical Information), Office of External Affairs, Federal Energy Regulatory Commission, 888 First Street NE., Washington, DC 20426, (202) 502-8004, Sarah.McKinley@ferc.gov.

Dated: August 23, 2013.
Nathaniel J. Davis, Sr.,
Deputy Secretary.

[FR Doc. 2013-21106 Filed 8-28-13; 8:45 am]

BILLING CODE 6717-01-P